DEPARTMENT OF JUSTICE

Notice of Lodging of Consent Decree Pursuant to the Oil Pollution Act (OPA)

In accordance with Departmental policy, 28 CFR 50.7, notice is hereby given that a proposed Consent Decree in United States of America and the State of Maryland v. Potomac Electric Power Company, Support Terminals Operation Partnership, L.P. and Support Terminal Services, Inc., Civil Action No. AW 02-4013, was lodged with the United States District Court for the District of Maryland on December 11, 2002.

The Consent Decree resolves claims under the Oil Pollution Act of 1990, 33 U.S.C. 2701-2761 brought against Potomac Electric Power Company, Support Terminals Operating Partnership, L.P., and Support Terminal Services, Inc. collectively, (“Defendants”), for natural resource damages arising from the April 7, 2000 spill of oil from the rupture in an oil pipeline at Chalk Point Generating Station near Aquasco, Maryland.

The proposed Consent Decree requires the Defendants to pay approximately $2,700,000 in natural resource damages and approximately $318,000 for remaining unpaid damage assessment costs. The Consent Decree includes a covenant not to sue by the United States and State of Maryland under the Oil Pollution Act.

The Department of Justice will receive, for a period of thirty (30) days from the date of this publication, comments relating to the proposed Consent Decree. Comments should be addressed to the Assistant Attorney General, Environment and Natural Resources Division, PO Box 7611, U.S. Department of Justice, Washington, DC 20044-7611. Each communication should refer to United States, et al. v. Potomac Electric Power Co., et al.

The Consent Decree may be examined at the Office of the United States Attorney, District of Maryland, 101 W. Lombard Street, Suite 6625, Baltimore, Maryland, 21201. A copy of the proposed Consent Decree may be obtained by (1) mail from the Consent Decree Library, PO Box 7611, U.S. Department of Justice, Washington, DC 20044 7611; or by (2) faxing the request to Tonia Fleetwood, U.S. Department of Justice, fax number (202) 514-0097; phone confirmation (202) 514-1547. In requesting a copy, please forward the request and a check in the amount of $7.00 (25 cents per page reproduction cost), made payable to the U.S. Treasury.

Robert Brook,
Assistant Section Chief, Environmental Enforcement Section, Environment and Natural Resources Division.

[FR Doc. 02-31913 Filed 12-18-02; 8:45 am]

BILLING CODE 4410-15-M